INTERNATIONAL TRADE COMMISSION

[Investigation No. 731-TA-1545 (Final)]

Utility Scale Wind Towers From Spain; Determination

On the basis of the record ¹ developed in the subject investigation, the United States International Trade Commission (“Commission”) determines, pursuant to the Tariff Act of 1930 (“the Act”), that an industry in the United States is materially injured by reason of imports of utility scale wind towers (“wind towers”) from Spain, provided for in subheadings 7308.20.00 and 8502.31.00 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 86 FR 33656, June 25, 2021.

Background

The Commission instituted antidumping and countervailing duty investigations effective September 30, 2020, following receipt of petitions filed with the Commission and Commerce by the Wind Tower Trade Coalition (Arcosa Wind Towers Inc., Dallas, Texas; and Broadwind Towers, Inc., Manitowoc, Wisconsin). The Commission established a general schedule for the conduct of the final phase of its investigations on wind towers from India, Malaysia, and Spain following preliminary determinations by Commerce that imports of wind towers were subsidized by the governments of India and Malaysia. Notice of the scheduling of the final phase of the Commission's investigations and of a public hearing to be held in connection therewith was given by posting copies of the notice in the Office of the Secretary, U.S. International Trade Commission, Washington, DC, and by publishing the notice in the Federal Register of April 16, 2021 (86 FR 20197). Counsel for the Wind Tower Trade Coalition withdrew its previously filed request to appear at the hearing, after no other parties submitted a request to appear, and indicated a willingness to submit written responses to any Commission questions in lieu of a hearing. Consequently, since no party to the proceeding requested a hearing, the Commission canceled its hearing in connection with this proceeding (86 FR 31730, June 9, 2021). Parties to this proceeding responded to written questions posed by the Commission in their posthearing briefs.

The investigation schedules became staggered when Commerce did not align its countervailing duty investigation with its antidumping duty investigation regarding imports from Malaysia (86 FR 27828, May 24, 2021), nor with its antidumping duty investigation regarding imports from Spain (86 FR 17373, Apr. 2, 2021), while it aligned its countervailing duty investigation regarding imports from India with that of its corresponding postponed antidumping duty investigation, and postponed its antidumping duty investigation regarding Malaysia (86 FR 15897, Mar. 25, 2021; 86 FR 38274, July 20, 2021; 86 FR 27828, May 24, 2021). On July 26, 2021, the Commission issued a final affirmative determination in its countervailing duty investigation of wind towers from Malaysia (86 FR 41087, July 30, 2021). Following notification of a final determination by Commerce that imports of wind towers from Spain were being sold at LTFV within the meaning of section 735(a) of the Act (19 U.S.C. 1673d(a)), notice of the supplemental scheduling of the final phase of the Commission's antidumping duty investigation regarding Spain was given by posting copies of the notice in the Office of the Secretary, U.S. International Trade Commission, Washington, DC, and by publishing the notice in the Federal Register of July 9, 2021 (86 FR 36305).

The Commission made this determination pursuant to section 735(b) of the Act (19 U.S.C. 1673d(b)). It completed and filed its determination in this investigation on August 9, 2021. The views of the Commission are contained in USITC Publication 5219 (August 2021), entitled Utility Scale Wind Towers from Spain: Investigation No. 731-TA-1545 (Final).

By order of the Commission.
Issued: August 9, 2021.
Lisa Barton,
Secretary to the Commission.

[FR Doc. 2021-17309 Filed 8-12-21; 8:45 am]

BILLING CODE 7020-02-P